DEPARTMENT OF TRANSPORTATION

National Highway Traffic Safety Administration

[Docket No. NHTSA-2024-0009; Notice 1]

Ineos Automotive Americas, LLC, Receipt of Petition for Decision of Inconsequential Noncompliance

AGENCY: National Highway Traffic Safety Administration (NHTSA), Department of Transportation (DOT).

ACTION: Receipt of petition.

SUMMARY: Ineos Automotive Americas, LLC, (IAA) has determined that certain model year (MY) 2024 Ineos Automotive Grenadier light vehicles do not fully comply with Federal Motor Vehicle Safety Standard (FMVSS) No. 110, Tire Selection and Rims and Motor Home/Recreation Vehicle Trailer Load Carrying Capacity Information for Motor Vehicles with a GVWR of 4,536 kilograms (10,000 Pounds) or Less. IAA filed a noncompliance report dated December 4, 2023, and subsequently petitioned NHTSA (the “Agency”) on December 8, 2023, for a decision that the subject noncompliance is inconsequential as it relates to motor vehicle safety. This document announces receipt of IAA's petition.

DATES: Send comments on or before August 26, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Kamna Ralhan, General Engineer, NHTSA, Office of Vehicle Safety Compliance, (202) 366-6443.

SUPPLEMENTARY INFORMATION:

I. Overview: IAA determined that certain MY 2024 Ineos Automotive Grenadier light vehicles do not fully comply with paragraph S4.3(a) of FMVSS No. 110, Tire Selection and Rims and Motor Home/Recreation Vehicle Trailer Load Carrying Capacity Information for Motor Vehicles with a GVWR of 4,536 Kilograms (10,000 Pounds) or Less (49 CFR 571.110).

IAA filed a noncompliance report dated December 4, 2023, pursuant to 49 CFR part 573, Defect and Noncompliance Responsibility and Reports. IAA petitioned NHTSA on December 8, 2023, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of IAA's petition is published under 49 U.S.C. 30118 and 30120 and does not represent any agency decision or another exercise of judgment concerning the merits of the petition.

II. Vehicles Involved: Approximately 1,125 MY 2024 Ineos Automotive Grenadier light vehicles, manufactured between September 7, 2023, and October 10, 2023, were reported by the manufacturer.

III. Rule Requirements: Paragraph S4.3(a) of FMVSS No. 110 includes the requirements relevant to this petition. Paragraph S4.3(a) provides that each vehicle, except for a trailer or incomplete vehicle, must show the vehicle capacity weight expressed as “The combined weight of occupants and cargo should never exceed XXX kilograms or XXX pounds.”

IV. Noncompliance: IAA explains that the subject vehicles are equipped with a vehicle placard that provides an incorrect maximum vehicle capacity weight, and therefore does not comply with paragraph S4.3(a) of FMVSS No. 110. Specifically, the vehicle placard states that the maximum vehicle capacity weight is 604 pounds when it should state that it is 1,889 pounds. FMVSS 110, S4.3(a) provides that each vehicle contains a placard that is permanently attached to the B-Pillar or nearby location that includes a series of information related to the vehicle's weight capacity (cargo and occupants), tire size and inflation information and maximum number of occupants. Under FMVSS 110, S4.3(f), the placard must also include a statement that owner's manual should be consulted for further information.

V. Summary of IAA's Petition: The following views and arguments presented in this section, “V. Summary of IAA's Petition,” are the views and arguments provided by IAA. They have not been evaluated by the Agency and do not reflect the views of the Agency. IAA describes the subject noncompliance and contends that the noncompliance is inconsequential as it relates to motor vehicle safety.

IAA explains that, due to a calculation error, the vehicle placard on the subject vehicles provides the incorrect maximum vehicle capacity weight. IAA contends that this error does not pose a safety risk because the subject vehicles are functionally capable of carrying significantly more weight in both cargo and occupants thus, preventing any risk of vehicle overloading.

IAA believes that the subject noncompliance does not cause any increased safety risk to vehicle occupants because the maximum vehicle capacity weight is understated rather than overstated. Consequently, IAA argues, adhering to the maximum vehicle capacity weight provided on the vehicle placard would not lead to vehicle overloading.

IAA says that the purpose of the vehicle placard is to convey accurate information for the vehicle to be operated in a safe manner and to reduce the potential for crashes due to overloading. The vehicle placard contains information that includes the subject vehicle's maximum weight capacity that should not be exceeded.

IAA explains that the placard for the subject vehicles lists the weight capacity as 604 pounds or 274 kg which is lower than the actual maximum weight capacity of the subject vehicles. According to IAA, the subject vehicles are designed and engineered to carry a maximum weight of 1,889 pounds (857 kg), which is more than three times the maximum weight capacity listed on the vehicle placard. Consequently, IAA believes that the noncompliant placard does not pose a risk of overloading the subject vehicles, even if the consumers do not reference any other sources of information, like the owner's manual.

IAA notes that if the vehicle operator questions the maximum vehicle weight capacity, they can refer to additional sources for information. The Grenadier owner's manual provides additional information on the vehicle's weight carrying capacity and explains how to calculate it correctly, including an example of how to perform the calculation. The owner's manual also includes information on safe handling when the subject vehicle is loaded with occupants and cargo, such as where to place the cargo within the vehicle and instructions on properly securing cargo.

Further, IAA says that the vehicle's certification label, per 49 CFR part 567, is permanently affixed on each vehicle's B-Pillar. This label contains the subject vehicle's Gross Vehicle Weight Rating (GVWR) and Gross Axle Weight Rating (GAWR). IAA explains that if a consumer notices an unusually low maximum weight capacity listed on the vehicle placard required by FMVSS No. 110 label, it is reasonable for them to consult the certification label, along with the owner's manual, to clarify the vehicle weight capacity value. IAA highlights a prior petition by Mercedes-Benz USA, LLC, that NHTSA granted (82 FR 33547 July 12, 2017). In that case, the GVWR and GAWR values listed on the certification label were accurate and provided an additional resource for consumers to reference maximum vehicle weight capacity.

IAA cites other prior petitions NHTSA granted involving noncompliances where information on the vehicle placard was inaccurate, but the manufacturer demonstrated that there was no risk of vehicle overloading:

• BMW of North America, LLC, a Subsidiary of BMW AG, Grant of Petition for Decision of Inconsequential Noncompliance, 78 FR 38799, June 27, 2013 (The number of rear and maximum vehicle occupants on the vehicle placard was understated and found to be inconsequential because there was little to no risk of vehicle overloading.),

• BMW North America, LLC, Grant of Petition for Decision of Inconsequential Noncompliance, 88 FR 14245, March 7, 2023. (The noncompliant vehicle was designed to withstand a larger capacity weight than was stated on its tire loading label and would not present a consequential safety problem.),

• Grant of Petition to Mercedes-Benz USA, LLC, 82 FR 33547 July 12, 2017, (The maximum vehicle weight capacity was overstated, but the vehicle's tire loading capacities were sufficient to handle the additional weight.).

IAA highlights another petition that NHTSA granted, submitted by FCA US LLC (FCA), which IAA says has nearly identical facts. In FCA's petition, the vehicle placard displayed a combined occupant and cargo weight of 1,150 lbs. rather than 1,240 lbs. and misstated the maximum number of occupants that the vehicle could carry. (See Grant of Petition of FCA US, LLC, 88 FR 84393, December 5, 2023). IAA contends that, unlike in the FCA petition, all information on the subject vehicles' is accurate except the maximum vehicle capacity weight.

IAA states that it has corrected the subject noncompliance in its production, and all of the remaining information on the vehicle placard is accurate, including the maximum number of vehicle passengers, tire size and tire pressure.

IAA concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that IAA no longer controlled at the time it determined that the noncompliance existed. However, any decision on this petition does not relieve vehicle distributors and dealers of the prohibitions on the sale, offer for sale, or introduction or delivery for introduction into interstate commerce of the noncompliant vehicles under their control after IAA notified them that the subject noncompliance existed.

(Authority: 49 U.S.C. 30118, 30120: delegations of authority at 49 CFR 1.95 and 501.8)

Otto G. Matheke, III,
Director, Office of Vehicle Safety Compliance.

[FR Doc. 2024-16483 Filed 7-25-24; 8:45 am]

BILLING CODE 4910-59-P